DEPARTMENT OF HOMELAND SECURITY

Coast Guard

33 CFR Part 100

[CGD01-03-030]

Special Local Regulation: Harvard-Yale Regatta, Thames River, New London, CT

AGENCY: Coast Guard, DHS.

ACTION: Notice of implementation of regulations.

SUMMARY: This notice implements the permanent regulations for the annual Harvard-Yale Regatta, a rowing competition held on the Thames River in New London, CT. The regulation is necessary to control vessel traffic within the immediate vicinity of the event due to the confined nature of the waterway and anticipated congestion at the time of the event, thus providing for the safety of life and property on the affected navigable waters.

DATES: The regulations in 33 CFR 100.101 are effective on June 7, 2003, from 9:30 a.m. to 5 p.m. If the regatta is canceled due to weather, this section will be in effect on the following day, Sunday, June 8, 2003, during the same hours.

FOR FURTHER INFORMATION CONTACT: Petty Officer Austin Nagle, Office of Search and Rescue, First Coast Guard District, (617) 223-8460.

SUPPLEMENTARY INFORMATION: This notice implements the permanent special local regulation governing the 2003 Harvard-Yale Regatta. A portion of the Thames River in New London, Connecticut will be closed during the effective period to all vessel traffic except participants, official regatta vessels, and patrol craft. The regulated area is that area of the river between the Penn Central drawbridge and Bartlett's Cove. Additional public notification will be made via the First Coast Guard District Local Notice to Mariners and marine safety broadcasts. The full text of this regulation is found in 33 CFR 100.101.

Dated: April 25, 2003.
Vivien S. Crea,
Rear Admiral, U.S. Coast Guard, Commander, First Coast Guard District.

[FR Doc. 03-11989 Filed 5-13-03; 8:45 am]

BILLING CODE 4910-15-P